DEPARTMENT OF LABOR

Employment and Training Administration

[TA-W-59,197]

Collins and Aikman Products Company; Farmville, NC; Notice of Affirmative Determination Regarding Application for Reconsideration

By application June 12, 2006, a company official requested administrative reconsideration of the Department of Labor's Notice of Negative Determination Regarding Eligibility to Apply for Worker Adjustment Assistance and Alternative Trade Adjustment Assistance, applicable to workers of the subject firm. The Department's negative determination was issued on May 11, 2006. On June 9, 2006, the Department's Notice of determination was published in the Federal Register (71 FR 33488).

In the request for reconsideration, the company official alleges that the Department investigated only one of the two articles produced at the subject facility (automotive interior fabrics and specialty products).

The Department has carefully reviewed the request for reconsideration and has determined that the Department will conduct further investigation based on new information provided by the company official.

Conclusion

After careful review of the application, I conclude that the claim is of sufficient weight to justify reconsideration of the Department of Labor's prior decision. The application is, therefore, granted.

Signed at Washington, DC, this 27th day of June 2006.
Elliott S. Kushner,
Certifying Officer, Division of Trade Adjustment Assistance.

[FR Doc. E6-11854 Filed 7-24-06; 8:45 am]

BILLING CODE 4510-30-P